DEPARTMENT OF COMMERCE

International Trade Administration

[A-570-831]

Fresh Garlic From the People's Republic of China: Extension of Time Limit for Preliminary Results of Antidumping Duty New Shipper Reviews

AGENCY: Import Administration, International Trade Administration, Department of Commerce.

DATES: Effective Date: November 30, 2010.

FOR FURTHER INFORMATION CONTACT: Jacqueline Arrowsmith (Yantai Jinyan Trading, Inc.), Milton Koch (Jining Yifa Garlic Produce Co., Ltd.), Justin Neuman (Shenzhen Bainong Co., Ltd.), AD/CVD Operations, Office 6, Import Administration, International Trade Administration, Department of Commerce, Room 7866, 14th Street and Constitution Avenue, NW., Washington DC 20230; telephone: (202) 482-5255, (202) 482-2584, and (202) 482-0486, respectively.

Background

On July 7, 2010, the Department published the initiation of the new shipper reviews of the antidumping duty order on fresh garlic from the People's Republic of China for three exporters: Shenzhen Bainong Co., Ltd. (Bainong), Jining Yifa Garlic Produce Co., Ltd, (Yifa) and Yantai Jinyan Trading, Inc. (Jinyan). The period of review (POR) for Bainong and Yifa is November 1, 2009 through April 30, 2010. The POR for Jinyan is November 1, 2009 through May 31, 2010. See Fresh Garlic From the People's Republic of China: Initiation of New Shipper Reviews, 75 FR 38986 (July 7, 2010).

Extension of Time Limit for the Preliminary Results

Section 751(a)(2)(B)(iv) of the Tariff Act of 1930, as amended (the Act), and 19 CFR 351.214(i)(1) require the Department to issue the preliminary results of a new shipper review within 180 days after the date on which the review was initiated, and the final results of the review within 90 days after the date on which the preliminary results were issued. However, if the Department concludes that a new shipper review is extraordinarily complicated, section 751(a)(2)(B)(iv) of the Act and 19 CFR 351.214(i)(2) allow the Department to extend the 180-day period to 300 days, and to extend the 90-day period to 150 days. The current deadline for the preliminary results is December 27, 2010. The Department has determined that these new shipper reviews involve extraordinarily complicated methodological issues, which require the examination of importer and customer information for Bainong, Jinyan, and Yifa. Additional time is also required to ensure that the Department can fully examine whether the sales under review are bona fide for each of the three companies under review.

Therefore, the Department is extending the deadline for completion of the preliminary results of these new shipper reviews to 300 days, in accordance with section 751(a)(2)(B)(iv) of the Act and 19 CFR 351.214(i)(2). Accordingly, the deadline for the completion of these preliminary results is now no later than April 26, 2011.

This notice is issued and published pursuant to sections 751(a)(3)(A) and 777(i)(1) of the Act.

Dated: November 22, 2010.
Susan H. Kuhbach,
Acting Deputy Assistant Secretary for Antidumping and Countervailing Duty Operations.

[FR Doc. 2010-30141 Filed 11-29-10; 8:45 am]

BILLING CODE 3510-DS-P